FEDERAL COMMUNICATIONS COMMISSION

Radio Broadcasting Services; AM or FM Proposals To Change the Community of License

AGENCY: Federal Communications Commission.

ACTION: Notice.

SUMMARY: The following applicants filed AM or FM proposals to change the community of license: ABLE RADIO CORPORATION, Station NEW, Facility ID 170953, BNPH-20070403ACO, From AGUILA, AZ, To TONOPAH, AZ; ADVANCE ACQUISITION, INC., Station KQJZ, Facility ID 160700, BMP-20070725ALN, From KALISPELL, MT, To EVERGREEN, MT; AMERICAN EDUCATIONAL BROADCASTING, INC., Station KLKA, Facility ID 82692, BMPED-20070803ACY, From GLOBE, AZ, To CASA GRANDE, AZ; CANYON MEDIA CORPORATION, Station KONY, Facility ID 18140, BPH-20070726AHL, From ST. GEORGE, UT, To HURRICANE, UT; CAPSTAR TX LIMITED PARTNERSHIP, Station KIYS, Facility ID 51855, BPH-20070726ADN, From JONESBORO, AR, To CRAWFORDSVILLE, AR; CAPSTAR TX LIMITED PARTNERSHIP, Station KTEX, Facility ID 64631, BPH-20070803ACV, From BROWNSVILLE, TX, To MERCEDES, TX; CHEHALIS VALLEY EDUCATIONAL FOUNDATION, Station KACS, Facility ID 10685, BPED-20070813AAF, From CHEHALIS, WA, To RANIER, WA; CLEAR CHANNEL BROADCASTING LICENSES, INC., Station KHKZ, Facility ID 36166, BPH-20070803ACP, From MERCEDES, TX, To SAN BENITO, TX; COLLEGE CREEK MEDIA, LLC, Station KCLS, Facility ID 55461, BPH-20070803ADM, From ELY, NV, To PIOCHE, NV; CSN INTERNATIONAL, Station KGSF, Facility ID 92987, BMPED-20070430AEP, From ANDERSON, MO, To GREEN FOREST, AR; CSN INTERNATIONAL, Station KJCC, Facility ID 122517, BPED-20070719AAU, From CARNEGIE, OK, To HINTON, OK; CSN INTERNATIONAL, Station WUJC, Facility ID 122209, BMPED-20070806AEW, From ST. MARKS, FL, To TALLAHASSEE, FL; CSN INTERNATIONAL, Station KWYC, Facility ID 87267, BMPED-20070808ACK, From ORCHARD VALLEY, WY, To CHEYENNE, WY; CSN INTERNATIONAL, Station KJCC, Facility ID 122517, BMPED-20070814AAW, From CARNEGIE, OK, To HINTON, OK; EDUCATIONAL MEDIA FOUNDATION, Station KAIS, Facility ID 88397, BMPED-20070720ABV, From REDWOOD VALLEY, CA, To HOPLAND, CA; EDUCATIONAL MEDIA FOUNDATION, Station KVLK, Facility ID 122812, BPED-20070724ACV, From SOCORRO, NM, To MILAN, NM; EDUCATIONAL MEDIA FOUNDATION, Station KAIA, Facility ID 76841, BPED-20070730ACS, From BLYTHEVILLE, AR, To BLOOMFIELD, MO; EDUCATIONAL MEDIA FOUNDATION, Station KAIC, Facility ID 78758, BPED-20070803ACO, From TUCSON, AZ, To MAMMOTH, AZ; EXPONENT BROADCASTING, INC., Station WXJO, Facility ID 25386, BMP-20070725ACM, From GORDON, GA, To DOUGLASVILLE, GA; GEORGIA EAGLE BROADCASTING, INC., Station WMCD, Facility ID 65607, BPH-20070705AAA, From CLAXTON, GA, To SULLIVAN'S ISLAND, SC; KEILY MILLER, Station NEW, Facility ID 165946, BMPH-20070727ABV, From BEATTY, NV, To CRYSTAL, NV; NAPLES EDUCATIONAL BROADCASTING FOUNDATION, Station WBGY, Facility ID 47386, BPED-20070806AFD, From NAPLES, FL, To EVERGLADES CITY, FL; RADIO PALATKA, INC., Station WPLK, Facility ID 54721, BP-20070725AEF, From PALATKA, FL, To BUNNELL, FL; RADIO REDENTOR, Station WERR, Facility ID 54750, BPH-20070719ADT, From UTUADO, PR, To VEGA ALTA, PR; SHAFFER COMMUNICATIONS GROUP/THIRD COAST JT VENTURE, Station KOPA, Facility ID 82843, BPH-20070723ABQ, From WOODWARD, OK, To BALKO, OK; SIGA BROADCASTING CORPORATION, Station KTMR, Facility ID 28191, BP-20070720ACR, From EDNA, TX, To CONVERSE, TX; WESTERN BROADCASTING LS, LLC, Station KURR, Facility ID 164147, BMPH-20070726AHG, From HURRICANE, UT, To INDIAN SPRINGS, NV; WHITE PARK BROADCASTING, INC., Station KBEN-FM, Facility ID 165998, BMPH-20070716ABY, From BASIN, WY, To COWLEY, WY; WSJD, INC., Station WSJD, Facility ID 55111, BPH-20070801AAB, From PRINCETON, IN, To ELBERFELD, IN.

DATES: Comments may be filed through October 29, 2007.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm.

A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. E7-17029 Filed 8-28-07; 8:45 am]

BILLING CODE 6712-01-P